DEPARTMENT OF ENERGY

Federal Energy Regulatory Commission

Combined Notice of Filings #3

Take notice that the Commission received the following electric rate filings:

Docket Numbers: ER11-3957-002.

Applicants: Consumers Energy Company.

Description: Consumers Energy Company submits tariff filing per 35: Amended Facilities Agreement with MPLP to be effective 8/29/2011.

Filed Date: 10/24/2011.

Accession Number: 20111024-5070.

Comment Date: 5 p.m. Eastern Time on Monday, November 14, 2011.

Docket Numbers: ER12-161-001.

Applicants: Bishop Hill Energy LLC.

Description: Bishop Hill Energy LLC submits tariff filing per 35.17(b): Supplement to Market-Based Rate Application to be effective 12/21/2011.

Filed Date: 10/21/2011.

Accession Number: 20111021-5176.

Comment Date: 5 p.m. Eastern Time on Monday, November 14, 2011.

Docket Numbers: ER12-178-000.

Applicants: PPL Energy Supply, LLC.

Description: PPL Energy Supply, LLC submits tariff filing per 35.12: PPL Energy Supply, LLC MBR Application to be effective 10/24/2011.

Filed Date: 10/24/2011.

Accession Number: 20111024-5069.

Comment Date: 5 p.m. Eastern Time on Monday, November 14, 2011.

Docket Numbers: ER12-179-000.

Applicants: Midwest Independent Transmission System Operator, Inc.

Description: Midwest Independent Transmission System Operator, Inc. submits tariff filing per 35.13(a)(2)(iii): G611 Termination to be effective 12/24/2011.

Filed Date: 10/24/2011.

Accession Number: 20111024-5080.

Comment Date: 5 p.m. Eastern Time on Monday, November 14, 2011.

Docket Numbers: ER12-180-000.

Applicants: Southwest Power Pool, Inc.

Description: Southwest Power Pool, Inc. submits tariff filing per 35.13(a)(2)(iii): 2261 Alexander Wind Farm, LLC GIA to be effective 9/21/2011.

Filed Date: 10/24/2011.

Accession Number: 20111024-5086.

Comment Date: 5 p.m. Eastern Time on Monday, November 14, 2011.

Docket Numbers: ER12-181-000.

Applicants: Southern Electric Generating Company.

Description: Southern Electric Generating Company submits tariff filing per 35.13(a)(2)(iii): SEGCO 2011 PBOP Filing to be effective 1/1/2012.

Filed Date: 10/24/2011.

Accession Number: 20111024-5087.

Comment Date: 5 p.m. Eastern Time on Monday, November 14, 2011.

Docket Numbers: ER12-182-000.

Applicants: Mississippi Power Company.

Description: Mississippi Power Company submits tariff filing per 35.13(a)(2)(iii): Gulf States TFA and 2011 PBOP Filing to be effective 1/1/2011.

Filed Date: 10/24/2011.

Accession Number: 20111024-5088.

Comment Date: 5 p.m. Eastern Time on Monday, November 14, 2011.

Docket Numbers: ER12-183-000.

Applicants: Georgia Power Company.

Description: Georgia Power Company submits tariff filing per 35.13(a)(2)(iii): GPCo 2011 PBOP Filings to be effective 1/1/2011.

Filed Date: 10/24/2011.

Accession Number: 20111024-5098.

Comment Date: 5 p.m. Eastern Time on Monday, November 14, 2011.

Docket Numbers: ER12-184-000.

Applicants: New York State Electric & Gas Corporation.

Description: New York State Electric & Gas Corporation submits tariff filing per 35.13(a)(2)(iii): NYSEG and Delaware County Electric Cooperative Facilities Agremeent: 2011 Update to be effective 10/25/2011.

Filed Date: 10/24/2011.

Accession Number: 20111024-5099.

Comment Date: 5 p.m. Eastern Time on Monday, November 14, 2011.

Docket Numbers: ER12-185-000.

Applicants: New York State Electric & Gas Corporation.

Description: New York State Electric & Gas Corporation submits tariff filing per 35.13(a)(2)(iii): NYSEG and Village of Bath Facilities Agreement (Rate Schedule 72): 2011 Update to be effective 10/25/2011.

Filed Date: 10/24/2011.

Accession Number: 20111024-5100.

Comment Date: 5 p.m. Eastern Time on Monday, November 14, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2011.
Nathaniel J. Davis, Sr.,
Deputy Secretary.

[FR Doc. 2011-28193 Filed 10-31-11; 8:45 am]

BILLING CODE 6717-01-P